DEPARTMENT OF HEALTH AND HUMAN SERVICES

Centers for Disease Control and Prevention

[Program Announcement 01096]

Development of Prototypes for The Paul Coverdell National Acute Stroke Registry; Notice of Availability of Funds

A. Purpose

The Centers for Disease Control and Prevention (CDC) announces the availability of fiscal year (FY) 2001 funds for a cooperative agreement for the development of prototypes for The Paul Coverdell National Acute Stroke Registry. This project addresses the “Healthy People 2010” focus area(s) related to Heart Disease and Stroke and Access to Quality Health Services.

The purpose of this program is to design and pilot test real-time data and analysis prototypes in statewide samples that will measure the delivery of care to patients with acute stroke.

The focus is on acute care which includes the process from onset of signs and symptoms through the emergency medical system or other transport to a hospital emergency department; diagnostic evaluation; use of thrombolytic therapy when indicated by diagnosis and timeliness; other aspects of acute care; and referral to rehabilitation services for surviving cases.

B. Eligible Applicants

Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $3,600,000 is available in FY 2001, to fund approximately 4 to 5 awards. It is expected that the average award will be $800,000, ranging from $500,000 to $1,000,000. It is expected that the awards will begin on or about August 31, 2001, and will be made for a 12-month budget period within a project period of one year. Funding estimates may change.

Funding Priority

1. Preference may be given to applications targeting states with the highest death rates for stroke.

2. Preference may be given to applications such that different geographic areas are represented.

D. Program Requirements

In conducting activities to achieve the purpose of this program, the recipient will be responsible for the activities under 1. (Recipient Activities), and CDC will be responsible for the activities listed under 2. (CDC Activities).

1. Recipient Activities

a. Plan, implement, and support the operation of hospital-based, statewide stroke registries in order to collect data concerning: each patient presenting to the hospital Emergency Departments with an admitting diagnosis of stroke.

b. Establish or enhance, and regularly convene an advisory committee to assist in building a consensus, cooperation, and planning for the statewide stroke registry. Representatives may include State Health Departments, key organizations and individuals such as hospital emergency department personnel, neurologists, nurses, clinicians, and others deemed appropriate.

c. Develop a sampling plan for the selection of hospitals to participate in the statewide stroke registry prototype such that the sample is representative of the state's facilities that provide care to patients with acute stroke.

d. Establish selected hospitals to participate in the stroke registry prototype.

e. With other grantees, participate in the final selection of a standard list of data items to be used by all recipients.

f. Develop a data collection mechanism and train hospital personnel in the data collection process.

g. Develop and maintain a data system, including quality assurance mechanisms for data collection and management, to provide timely, complete and quality data.

h. Plan and implement a methodology for assessments of hospital reporting compliance, validity of diagnosis, reliability and completeness of all reporting parameters, and hospital costs required for data collection.

i. Develop and maintain the capability to securely export data.

j. Ensure secure electronic storage, to the extent possible, of all collected data including text and codes.

k. Collaborate with an independent outside audit of data completeness and quality.

l. Develop plan and use stroke registry data to improve the delivery of care to patients with acute stroke.

2. CDC Activities

a. Provide technical assistance in the development and final selection of standard data items to be used by all recipients.

b. Provide ongoing consultation and technical assistance for effective program planning and management.

c. Collaborate in establishing or endorsing program requirements for completeness, timeliness and accuracy of data.

d. Support the independent quality control audits of registry data completeness and accuracy.

E. Application Content

Use the information in the Program Requirements, Other Requirements, and Evaluation Criteria sections to develop the application content. Your application will be evaluated on the criteria listed, so it is important to follow them in laying out your program plan. The narrative should be no more than 75 double-spaced pages, printed on one side, with one inch margins, and unreduced font.

F. Submission and Deadline

Letter of Intent

The letter of intent will be used to determine the number of potential respondents and to assist CDC in coordinating the objective review process. Your letter of intent should include the following information:

1. Name

2. Organization

3. State that will be targeted for data collection

The letter of intent should be submitted on or before May 25, 2001, to the Grants Management Specialist identified in the “Where to Obtain Additional Information” section of this announcement.

Application

Submit the original and two copies of PHS 5161-1 (OMB Number 0937-0189). Forms are available in the application kit or at the following Internet address: http://forms.psc.gov/

On or before June 29, 2001, submit the application to the Grants Management Specialist identified in the “Where to Obtain Additional Information” section of this announcement.

Deadline

Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late

Applications which do not meet the criteria in 1. or 2. above will be returned to the applicant.

G. Evaluation Criteria

Each application will be evaluated individually against the following criteria by an independent review group appointed by CDC.

Applications will be reviewed and evaluated according to the following criteria: (Maximum 100 Points).

1. Background and Experience: (15 Points)

The extent to which the applicant describes: (a) The epidemiology of stroke in the state and rationale for consideration as a high preference state; (b) past and current registry related activities, including strengths and limitations, of health services data collection and outcomes evaluation.

2. Collaboration: (10 Points)

The extent to which the applicant: (a) Describes a current or proposed Stroke Advisory Committee; (b) describes past, current, and proposed stroke prevention activities and collaborations with relevant organizations and agencies within the state and with other states or national organizations interested in stroke prevention and stroke management; (c) provides letters of support from the State Health Department and relevant organizations.

3. Existing Resources and Sampling Plan: (20 Points)

The extent to which the applicant provides: (a) A description of all existing and in-state hospital sources that provide care to acute stroke patients; (b) a description of existing stroke registries in the state; (c) a sampling plan for the selection of hospitals such that the sample is adequate in number and representative of the state's hospitals that provide care to patients with acute stroke; (d) letters supporting willingness to participate from the selected hospitals.

4. Implementation Plan and Schedule: (30 Points)

The extent to which the major steps required for project design and implementation adequately address all recipient activities in the program requirements, are realistically described, and the project timetable displays appropriate dates for the accomplishment of specific project activities.

5. Data Utilization: (10 Points)

The extent to which the applicant provides a relevant and realistic plan to use stroke registry data to improve the delivery of care to patients with acute stroke.

6. Project Management and Staffing Plan: (15 Points)

The extent to which proposed staffing, organizational structure, staff experience and background, identified training needs or plan, and job descriptions and curricula vitae for both proposed and current staff indicate ability to carry out the purposes of the program.

7. Budget: (Not Scored)

The extent to which the applicant provides a detailed budget and justification consistent with the stated objectives and program activities.

H. Other Requirements

Technical Reporting Requirements

Provide CDC with original plus two copies of:

1. Semiannual progress reports;

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment I in the application kit.

AR-7—Executive Order 12372 Review

AR-8—Public Health System Reporting Requirements

AR-9—Paperwork Reduction Act Requirements

AR-10—Smoke-Free Workplace Requirements

AR-11—Healthy People 2010

AR-12—Lobbying Restrictions

AR-14—Accounting System Requirements

AR-15—Proof of Non-Profit Status

I. Authority and Catalog of Federal Domestic Assistance Number

This program is authorized under section 317(k)(2) of the Public Health Service Act, [42 U.S.C. section 241], _ as amended. The Catalog of Federal Domestic Assistance number is 93.283.

J. Where To Obtain Additional Information

This and other CDC announcements can be found on the CDC home page Internet address: http://www.cdc.gov. Click on “Funding” then “Grants and Cooperative Agreements.”

Should you have questions after reviewing the contents of all the documents, business management technical assistance may be obtained from: Van King, Grants Management Specialist, Grants Management Branch, Procurement and Grants Office, Centers for Disease Control and Prevention, 2920 Brandywine Road, Room 3000, Atlanta, GA 30341-4146, Telephone number: (770) 488-2751, Email address: vbk5@cdc.gov.

For program technical assistance, contact: Wendy A. Wattigney, Cardiovascular Health Branch, Division of Adult and Community Health, NCCDPHP, 4770 Buford Highway, NE, Mailstop K47, Atlanta, Georgia 30341-3717, Telephone number: (770) 488-8149, Email address: wdw0@cdc.gov.

Dated: May 11, 2001.
John L. Williams,
Director, Procurement and Grants Office, Centers for Disease Control and Prevention (CDC).

[FR Doc. 01-12418 Filed 5-16-01; 8:45 am]

BILLING CODE 4163-18-P